DEPARTMENT OF HEALTH AND HUMAN SERVICES

Administration for Children and Families

Proposed Information Collection Activity; Comment Request

Proposed Projects

Title: Request for State Data Needed to Determine Amount of a Tribal Family Assistance Grant.

OMB No.: 0970-0173.

Description: 42 U.S.C. 612 (Section 412 of the Social Security Act) gives federally recognized Indian Tribes the opportunity to apply to operate a Tribal Temporary Assistance for Needy Families (TANF) program. The Act specifies that the Secretary shall use State-submitted data to determine the amount of the grant to the Tribe. This form (letter) is used to request those data from the States. ACF is proposing to extend this information collection without change.

Respondents: States that have Indian Tribes applying to operate a TANF program.

Annual Burden Estimates
Instrument | Number of respondents | Number of responses per respondent | Average burden hours per response | Total burden hours
Request for State Data Needed to Determine the Amount of Tribal Family Assistance Grant | 15 | 1 | 42 | 630

Estimated Total Annual Burden Hours: 630.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 4, 2010.
Robert Sargis,
Reports Clearance Officer.

[FR Doc. 2010-10808 Filed 5-6-10; 8:45 am]

BILLING CODE 4184-01-P